DEPARTMENT OF THE INTERIOR

Bureau of Land Management

[LLNMF01000.L13100000.DO0000]

Notice of Intent To Prepare a Resource Management Plan Amendment and an Associated Environmental Impact Statement for the Farmington Field Office, New Mexico

AGENCY: Bureau of Land Management, Interior.

ACTION: Notice of intent.

SUMMARY: In compliance with the National Environmental Policy Act of 1969, as amended (NEPA), and the Federal Land Policy and Management Act of 1976, as amended (FLPMA), the Bureau of Land Management (BLM) Farmington Field Office, Farmington, New Mexico, intends to prepare a Resource Management Plan (RMP) Amendment with an associated Environmental Impact Statement (EIS) to address issues relating to oil and gas in the Mancos Shale/Gallup Formation. This notice announces the beginning of the scoping process to solicit public comments and identify issues.

DATES: Comments may be submitted in writing until April 28, 2014. The date(s) and location(s) of any scoping meetings will be announced at least 15 days in advance through local news media, newspapers and the BLM web site at http://www.blm.gov/nm/farmington. In order to be included in the analysis, all comments must be received prior to the close of the 60-day scoping period or 15 days after the last public meeting, whichever is later. We will provide additional opportunities for public participation as appropriate.

ADDRESSES: You may submit comments on issues and planning criteria related to the oil and gas RMP Amendment/EIS for the Mancos Shale/Gallup Formation by any of the following methods:

• Web site: http://www.blm.gov/nm/farmington.

• Email: BLM_NM_FFO_RMP@blm.gov.

• Fax: 505-564-7608.

• Mail: 6251 N. College Blvd. Suite A, Farmington, NM 87402.

Documents pertinent to this proposal may be examined at the Farmington Field Office 6251 N. College Blvd. Suite A, Farmington, NM 87402.

FOR FURTHER INFORMATION CONTACT: Lindsey Eoff, Project Manager, Telephone: 505-564-7670; address: 6251 N. College Blvd. Suite A, Farmington, New Mexico 87402; email: BLM_NM_FFO_Comments@blm.gov. Contact Lindsey if you wish to have your name added to our mailing list. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The RMP amendment is being developed in order to analyze the impacts of additional development in what was previously considered a fully developed oil and gas play within the San Juan Basin in northwestern New Mexico. The Mancos Shale/Gallup Formation was analyzed in the 2002 Reasonable Foreseeable Development (RFD) Scenario and current Farmington Field Office 2003 RMP/EIS. Subsequent improvements and innovations in horizontal drilling technology and multi-stage hydraulic fracturing have enhanced the economics of developing this stratigraphic horizon. With favorable oil prices, the oil play in the southern part of the Farmington Field Office boundary has drawn considerable interest and several wells are planned and being drilled. As full-field development occurs, especially in the shale oil play, additional impacts may occur that previously were not anticipated in the RFD or analyzed in the current 2003 RMP/EIS, which will require an EIS-level plan amendment and revision of the RFD for complete analysis of the Mancos Shale/Gallup Formation. The planning area is located in northwestern New Mexico, encompassing about 4 million acres, and the analysis area encompasses about 6 million acres. The Field Office is part of the Farmington District and includes San Juan, McKinley, Rio Arriba, and Sandoval Counties. The majority of the BLM-managed land in the Field Office is located within larger tracts, with tribal, Indian allotted, scattered private, and State-owned inholdings. The area includes the larger communities of Farmington, Aztec, Bloomfield, and the smaller communities of Kirtland, Fruitland, Shiprock, Crownpoint, and Navajo Dam. Lands and mineral estate managed by the BLM for other Federal agencies, such as the U.S. Forest Service and the Bureau of Reclamation, are included in this RMP Amendment process and the analysis area. The purpose of the public scoping process is to determine relevant issues that will influence the scope of the environmental analysis, including alternatives, and guide the planning process. Preliminary issues for the plan amendment area have been identified by BLM personnel; Federal, State, and local agencies; and other stakeholders. The issues include: Public safety and hazardous materials; air quality; leasable, locatable and salable minerals; vegetation management; socio-economics; water (ground and surface); wildlife; migratory birds; special status species management; cultural resources; paleontological resources; realty and lands authorizations; and transportation and travel management. This EIS is in preparation of an RMP Amendment and not a revision, therefore, not all decisions from the 2003 RMP will be revisited. Decisions will be made related to impacts from oil and gas for the following resources and resource uses in the planning area: Air resources (air quality and climate change); soil resources; water resources (ground and surface); vegetative communities (e.g., rangelands, riparian areas, and weeds); wildlife/habitat management areas; leasable, locatable, and salable minerals; land use authorizations. Additional inventories will be conducted for lands with wilderness characteristics, transportation and travel management. All other resources are outside of the scope of this planning effort; however, impacts of the decisions for the resources being addressed will be analyzed on all affected resources. Preliminary planning criteria include:

• The Field Office will prepare the RMP Amendment in compliance with FLPMA, the Endangered Species Act, the Clean Water Act, the Clean Air Act, NEPA, and all other applicable laws, Executive Orders, and the BLM management policies.

• The Field Office will use the EIS as the analytical basis for any decision it makes to amend the RMP.

• The Field Office is developing an RFD to predict future levels of development.

• Lands covered in the RMP Amendment/EIS will be public land and split estates managed by the BLM.

• No decisions will be made relative to non-BLM administered lands.

• The Field Office will recognize valid existing rights under the RMPs, as amended.

• The Field Office will coordinate with Federal, State, and local agencies, and with tribal governments in the EIS and plan amendment process to strive for consistency with existing plans and policies, to the extent practicable.

• The Field Office will coordinate with tribal governments and provide strategies for the protection of recognized traditional uses in the EIS and plan amendment process.

• The Field Office will take into account appropriate protection and management of cultural and historic resources in the EIS and plan amendment process and will engage in all required consultation.

• The Field Office will recognize in the EIS and plan amendment the special importance of public lands to people who live in communities surrounded by public lands and the importance of public lands to the nation as a whole.

• The Field Office will make every effort to encourage public participation throughout the EIS process.

• The Field Office has the authority to develop protective management prescriptions for lands with wilderness characteristics within RMPs. As part of the public involvement process for land use planning, the BLM will consider public input regarding lands to be managed to maintain wilderness characteristics.

• Environmental protection and energy production are both desirable and necessary objectives of sound land management practices and are not to be considered mutually exclusive priorities.

• Broad-based public participation will be an integral part of the planning and EIS process. Decisions in the plan will strive to be compatible with the existing plans and policies of adjacent local, State, Federal, and tribal agencies as long as the decisions are consistent with the purposes, policies, and programs of Federal law and regulations applicable to public lands.

• The RMP Amendment/EIS will recognize the State's responsibility and authority to manage wildlife. The BLM will consult with the New Mexico Department of Game and Fish.

• The RMP Amendment/EIS will incorporate management decisions brought forward from existing planning documents.

The BLM will use the NEPA public participation requirements to assist the agency in satisfying the public involvement requirements under Section 106 of the National Historic Preservation Act (NHPA) (16 U.S.C. 470(f)) pursuant to 36 CFR 800.2(d)(3). The information about historic and cultural resources within the area potentially affected by the proposed action will assist the BLM in identifying and evaluating impacts to such resources in the context of both NEPA and Section 106 of the NHPA.

The BLM will consult with Indian tribes on a government-to-government basis in accordance with Executive Order 13175 and other policies. Tribal concerns, including impacts on Indian trust assets and potential impacts to cultural resources, will be given due consideration. Federal, State, and local agencies, along with tribes and other stakeholders that may be interested in or affected by the proposed action that the BLM is evaluating, are invited to participate in the scoping process and, if eligible, may request or be requested by the BLM to participate in the development of the environmental analysis as a cooperating agency.

You may submit comments on issues and planning criteria in writing to the BLM at any public scoping meeting, or you may submit them to the BLM using one of the methods listed in the ADDRESSES section above. To be most helpful, you should submit comments by the close of the 60-day scoping period or within 15 days after the last public meeting, whichever is later. Before including your address, phone number, email address, or other personal identifying information in your comment, you should be aware that your entire comment—including your personal identifying information—may be made publicly available at any time. While you can ask us in your comment to withhold your personal identifying information from public review, we cannot guarantee that we will be able to do so.

The minutes and list of attendees for each scoping meeting will be available to the public and open for 30 days after the meeting to any participant who wishes to clarify the views he or she expressed. The BLM will evaluate identified issues to be addressed in the plan, and will place them into one of three categories:

1. Issues to be resolved in the plan amendment;

2. Issues to be resolved through policy or administrative action; or

3. Issues beyond the scope of this plan amendment.

The BLM will provide an explanation in the Draft EIS as to why an issue was placed in category two or three. The public is also encouraged to help identify any management questions and concerns that should be addressed in the plan. The BLM will work collaboratively with interested parties to identify the management decisions that are best suited to local, regional, and national needs and concerns.

Parties interested in leasing and developing Federal coal in the planning area should provide coal resource data for their area(s) of interest. Specifically, information is requested on the location, quality, and quantity of Federal coal with development potential, and on surface resource values related to the 20 coal unsuitability criteria described in 43 CFR part 3461. This information will be used for any necessary updating of coal screening determinations in the planning area. The coal screening process is described in 43 CFR 3420.1-4. Proprietary data marked as confidential may be submitted in response to this call for coal information. Please submit all proprietary information submissions to the address listed above. The BLM will treat submissions marked as “Confidential” in accordance with applicable laws and regulations governing the confidentiality of such information.

The BLM will use an interdisciplinary approach to develop the plan amendment in order to consider the variety of resource issues and concerns identified. Specialists with expertise in the following disciplines will be involved in the planning process: Rangeland management, minerals and geology, outdoor recreation, archaeology, paleontology, wildlife, migratory birds, vegetation, special status species, air quality, lands and realty, hydrology, soils, sociology and economics.

Authority: 40 CFR 1501.7 and 43 CFR 1610.2.

Aden L. Seidlitz,
Associate State Director.

[FR Doc. 2014-04051 Filed 2-24-14; 8:45 am]

BILLING CODE 4310-FB-P